NATIONAL SCIENCE FOUNDATION

Notice of Intent To Seek Approval To Establish an Information Collection

AGENCY: National Science Foundation.

ACTION: Notice and Request for Comments.

SUMMARY: The National Science Foundation (NSF) is announcing plans to request establishment of this information collection. In accordance with the requirement of Section 3506(c)(2)(A) of the Paperwork Reduction Act of 1995, we are providing opportunity for public comment on this action. After obtaining and considering public comment, NSF will prepare the submission requesting OMB clearance of this collection for no longer than three years.

Comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information of respondents, including through the use of automated collection techniques or other forms of information technology.

DATES: Written comments should be received by September 23, 2013, to be assured of consideration. Comments received after that date will be considered to the extent practicable.

ADDRESSES: Written comments regarding the information collection and requests for copies of the proposed information collection request should be addressed to Suzanne Plimpton, Reports Clearance Officer, National Science Foundation, 4201 Wilson Boulevard, Room 295, Arlington, VA 22230, or by email to splimpton@nsf.gov.

FOR FURTHER INFORMATION CONTACT: Suzanne Plimpton on (703) 292-7556 or send email to splimpton@nsf.gov. Individuals who use a telecommunications device for the deaf (TDD) may call the Federal Information Relay Service (FIRS) at 1-800-877-8339, which is accessible 24 hours a day, 7 days a wee, 365 days a year (including federal holidays).

SUPPLEMENTARY INFORMATION: Title of Collection: Advancing Informal Science Learning Evaluation

OMB Number: 3145-NEW.

Expiration Date of Approval: Not applicable

Type of request: Establishing.

Abstract: Advancing Informal Science Learning (AISL), formerly titled Informal Science Education (ISE) program, is an NSF program that supports innovation in anywhere, anytime, lifelong learning, through investments in research, development, infrastructure, and capacity-building for science, technology, engineering and mathematics (STEM) learning outside formal school settings. Informal science experiences can serve to spark young people's interest in pursuing careers in STEM fields as well as to improve public engagement with STEM, contributing to science learning for most citizens. For over 40 years, NSF AISL has supported efforts to engage the public in science and science learning. Since the last major evaluation of the AISL program (COSMOS Corporation, 1998), the program has taken strategic steps to support the growing maturation of the informal science field, including field-wide resources, such as the InformalScience.org Web site and the Center for the Advancement of Informal Science Education. The program's grant solicitations have reflected a growing professionalization for the informal science community with new expectations for rigorous research and evaluation on implementation and outcomes.

The AISL program evaluation will characterize changes in the informal science arena since 1999 and delineate the role in those changes of the AISL program between 1999 and 2010. The evaluation will do so by analyzing AISL-funded projects over that time frame, attending in particular to the impact on informal science infrastructure, the rigor of individual project evaluations, the learning outcomes for diverse audiences, and the features of exemplary projects. The AISL program evaluation will employ a mixed-method approach including extensive document review of solicitations, proposals, reports, and published literature; qualitative and quantitative analyses of surveys and interviews with researchers and practitioners in the field; and case studies of influential projects, initiatives, and ideas. This information collection request will include a survey instrument for principal investigators of past and current AISL projects, a survey instrument for project evaluators, and protocols for follow-up interviews with a sample of principal investigator and evaluator survey respondents.

Estimate of Burden

Respondents: Individuals

Frequency: One time

Estimated Number of Respondents: PIs and evaluator surveys will be administered to individuals associated with a sample of 200 (of 703 funded) projects. In addition, 20 PIs and 20 evaluators will be purposively sampled from survey respondents for interviews.

Estimated Burden Hours on Respondents: The following aspects of the data collection add to respondent burden: (1) One-time administration of surveys to ISE-funded PIs and project evaluators, and (2) interviews with them. SRI anticipates that, including reading notification emails and consent forms, participating in the Web-based surveys will require 0.5 hour (30 minutes) on average of each respondent's time. Average completion time is estimated because completion time may vary significantly according to the duration and complexity of an individual's involvement with the NSF ISE program. SRI estimates that respondents who have a long history with the NSF program may take much longer to complete the survey, while a PI or evaluator who has worked on one or two projects may complete it in well under 30 minutes. Average interview participation will require no more than 60 minutes of each respondent's time. Respondents will not incur any equipment, postage, or travel costs. A total of 140 one-time burden hours are estimated for the study. There are no annually recurring burden hours.

Dated: July 18, 2013.
Suzanne H. Plimpton,
Reports Clearance Officer, National Science Foundation.

[FR Doc. 2013-17639 Filed 7-22-13; 8:45 am]

BILLING CODE 7555-01-P